COMMISSION ON CIVIL RIGHTS

Sunshine Act; Notice of Meeting

AGENCY: Commission on Civil Rights.

Date and Time: Friday, September 12, 2003, 9:30 a.m.

Place: U.S. Commission on Civil Rights, 624 Ninth Street, NW., Room 540, Washington, DC 20425.

Status:

Agenda

I. Approval of Agenda.

II. Approval of Minutes of July 18, 2003 Meeting.

III. Announcements.

IV. Staff Director's Report.

V. State Advisory Committee Interim Appointment for Illinois.

VI. FY-2005 Budget Estimate to OMB.

VII. “Not in My Backyard: Executive Order 12898 and Title VI as Tools for Achieving Environmental Justice” Report.

11 a.m. Presentation on Native Americans and the South Dakota Criminal Justice System.

FOR FURTHER INFORMATION CONTACT: Les Jin, Press and Communications (202) 376-7700.

Debra A. Carr,
Deputy General Counsel.

[FR Doc. 03-22812 Filed 9-3-03; 3:26 pm]

BILLING CODE 6335-01-M